DEPARTMENT OF JUSTICE

Drug Enforcement Administration

Hazem Barmada, M.D.; Decision and Order

On February 2, 2022, the Drug Enforcement Administration (DEA or Government) issued an Order to Show Cause (OSC) to Hazem Barmada, M.D. of Ocean Springs, Mississippi (Registrant). Request for Final Agency Action (RFAA), Exhibit (RFAAX) 1, at 1, 3. The OSC proposed the revocation of Registrant's Certification of Registration No. BB4130162, alleging that Registrant's registration should be revoked because Registrant is “currently without authority to handle controlled substances in the State of Mississippi, the state in which [he is] registered with DEA.” Id. at 2 (citing 21 U.S.C. 824(a)(3)).¹

¹ According to Agency records, Registrant's registration expired on July 31, 2024. The fact that a registrant allows his registration to expire during the pendency of an OSC does not impact the Agency's jurisdiction or prerogative under the Controlled Substances Act (CSA) to adjudicate the OSC to finality. Jeffrey D. Olsen, M.D., 84 FR 68474, 68476-79 (2019).

The Agency makes the following findings of fact based on the uncontroverted evidence submitted by the Government in its RFAA dated April 4, 2024.²

² Based on the Declaration from a DEA Diversion Investigator, the Agency finds that the Government's service of the OSC on Registrant was adequate and rendered on February 23, 2022. RFAAX 2, at 3. On April 7, 2022, Registrant requested additional time to respond to the OSC, which Administrative Law Judge Teresa A. Wallbaum (the ALJ) granted. RFAAX 3, at 1. On April 22, 2022, Registrant sent an email regarding State medical board proceedings, but did not mention or request a hearing regarding the OSC. Id. On April 25, 2022, the ALJ issued an Order Terminating Proceedings due to Registrant's failure to request a hearing. Id.

Findings of Fact

On November 18, 2021, the Mississippi State Board of Medical Licensure accepted Registrant's voluntary surrender of his Mississippi medical license. RFAAX 4, at 1-2. According to Mississippi online records, of which the Agency takes official notice, Registrant's Mississippi medical license remains surrendered.³ Mississippi State Board of Medical Licensure Licensee Lookup, https://gateway.msbml.ms.gov/verification/search.aspx (last visited date of signature of this Order).

³ Under the Administrative Procedure Act, an agency “may take official notice of facts at any stage in a proceeding—even in the final decision.” United States Department of Justice, Attorney General's Manual on the Administrative Procedure Act 80 (1947) (Wm. W. Gaunt & Sons, Inc., Reprint 1979). Pursuant to 5 U.S.C. 556(e), “[w]hen an agency decision rests on official notice of a material fact not appearing in the evidence in the record, a party is entitled, on timely request, to an opportunity to show the contrary.” Accordingly, Registrant may dispute the Agency's finding by filing a properly supported motion for reconsideration of findings of fact within fifteen calendar days of the date of this Order. Any such motion and response shall be filed and served by email to the other party and to the DEA Office of the Administrator, Drug Enforcement Administration at dea.addo.attorneys@dea.gov.

Accordingly, the Agency finds that Registrant is not licensed to practice medicine in Mississippi, the State in which he is registered with DEA.

Discussion

Pursuant to 21 U.S.C. 824(a)(3), the Attorney General is authorized to suspend or revoke a registration issued under 21 U.S.C. 823 “upon a finding that the registrant . . . has had his State license or registration suspended . . . [or] revoked . . . by competent State authority and is no longer authorized by State law to engage in the . . . dispensing of controlled substances.” With respect to a practitioner, DEA has also long held that the possession of authority to dispense controlled substances under the laws of the State in which a practitioner engages in professional practice is a fundamental condition for obtaining and maintaining a practitioner's registration. Gonzales v. Oregon, 546 U.S. 243, 270 (2006) (“The Attorney General can register a physician to dispense controlled substances `if the applicant is authorized to dispense . . . controlled substances under the laws of the State in which he practices.' . . . The very definition of a `practitioner' eligible to prescribe includes physicians `licensed, registered, or otherwise permitted, by the United States or the jurisdiction in which he practices' to dispense controlled substances. § 802(21).”). The Agency has applied these principles consistently. See, e.g., James L. Hooper, M.D., 76 FR 71371, 71372 (2011), pet. for rev. denied, 481 F. App'x 826 (4th Cir. 2012); Frederick Marsh Blanton, M.D., 43 FR 27616, 27617 (1978).⁴

⁴ This rule derives from the text of two provisions of the CSA. First, Congress defined the term “practitioner” to mean “a physician . . . or other person licensed, registered, or otherwise permitted, by . . . the jurisdiction in which he practices . . ., to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess State authority in order to be deemed a practitioner under the CSA, DEA has held repeatedly that revocation of a practitioner's registration is the appropriate sanction whenever he is no longer authorized to dispense controlled substances under the laws of the State in which he practices. See, e.g., James L. Hooper, M.D., 76 FR 71371-72; Sheran Arden Yeates, M.D., 71 FR 39130, 39131 (2006); Dominick A. Ricci, M.D., 58 FR 51104, 51105 (1993); Bobby Watts, M.D., 53 FR 11919, 11920 (1988); Frederick Marsh Blanton, M.D., 43 FR 27617.

According to Mississippi statute, “dispense” means “to deliver a controlled substance to an ultimate user or research subject by or pursuant to the lawful order of a practitioner, including the prescribing, administering, packaging, labeling or compounding necessary to prepare the substance for that delivery.” Miss. Code Ann. section 41-29-105(j) (2024). Further, a “practitioner” means a person “licensed, registered or otherwise permitted to distribute, dispense, conduct research with respect to or to administer a controlled substance in the course of professional practice or research in this state.” Id. section 41-29-105(y)(i).

Here, the undisputed evidence in the record is that Registrant currently lacks authority to practice medicine in Mississippi. As discussed above, an individual must be a licensed practitioner to dispense a controlled substance in Mississippi. Thus, because Registrant lacks authority to practice medicine in Mississippi and, therefore, is not authorized to handle controlled substances in Mississippi, Registrant is not eligible to maintain a DEA registration. Accordingly, the Agency will order that Registrant's DEA registration be revoked.

Order

Pursuant to 28 CFR 0.100(b) and the authority vested in me by 21 U.S.C. 824(a), I hereby revoke DEA Certificate of Registration No. BB4130162, issued to Hazem Barmada, M.D. Further, pursuant to 28 CFR 0.100(b) and the authority vested in me by 21 U.S.C. 823(g)(1), I hereby deny any pending applications of Hazem Barmada, M.D., to renew or modify this registration, as well as any other pending application of Hazem Barmada, M.D., for additional registration in Mississippi. This Order is effective April 21, 2025.

Signing Authority

This document of the Drug Enforcement Administration was signed on March 13, 2025, by Acting Administrator Derek Maltz. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-04768 Filed 3-19-25; 8:45 am]

BILLING CODE 4410-09-P